DEPARTMENT OF ENERGY

Federal Energy Regulatory Commission

[Project No. 1494-433; Oklahoma]

Grand River Dam Authority; Notice of Tribal Consultation Meeting

On May 6, 2016, the Grand River Dam Authority (GRDA) filed an application to amend the rule curve specified in Article 401 of the license for the Pensacola Project. The rule curve sets forth target water elevations for Grand Lake O' the Cherokees.

The Commission will hold a meeting with representatives of the tribes comprising the Inter-Tribal Council, Inc. potentially affected by GRDA's application to amend the rule curve. The meeting will be held from 9:00 a.m. to about 4:00 p.m. on Wednesday August 3, 2016, at the Miami Tribe of Oklahoma Council House, 2319 Newman Road, Miami, Oklahoma 74354.

Interested parties may attend the meeting as observers. The meeting will be transcribed by a court reporter and the transcript will be placed in the record of this proceeding.

For further information on this meeting please contact either B. Peter Yarrington at (202) 502-6129 or Linda Stewart at (202) 502-6680.

Dated: July 8, 2016
Kimberly D. Bose,
Secretary.

[FR Doc. 2016-16650 Filed 7-13-16; 8:45 am]

BILLING CODE 6717-01-P